NATIONAL AERONAUTICS AND SPACE ADMINISTRATION

[Notice 02-123]

NASA Advisory Council, Biological and Physical Research Advisory Committee Audio Teleconference

AGENCY: National Aeronautics and Space Administration.

ACTION: Notice of Meeting.

SUMMARY: In accordance with the Federal Advisory Committee Act, Public Law 92-463, as amended, the National Aeronautics and Space Administration announces a meeting of the NASA Advisory Council, Biological and Physical Research Advisory Committee.

DATES: Tuesday, November 12, 2002, from 2 p.m. until 4 p.m.

ADDRESSES: This meeting will be conducted via teleconference; hence participation will require contacting Dr. Bradley Carpenter (202/358-0826) before 4:30 p.m. Eastern, November 8, 2002, and leaving your name, affiliation, and phone number.

FOR FURTHER INFORMATION CONTACT: Dr. Bradley Carpenter, Code UG, National Aeronautics and Space Administration, Washington, DC 20546, 202/358-0826.

SUPPLEMENTARY INFORMATION: The meeting will be open to the public up to the capability of the teleconferencing system. The agenda for the meeting is as follows:

—Strategic Planning/Performance Measures

—Program Update

It is imperative that the meeting be held on this date to accommodate the scheduling priorities of the key participants. Visitors will be requested to sign a visitor's register.

June W. Edwards,
Advisory Committee Management Officer, National Aeronautics and Space Administration.

[FR Doc. 02-26209 Filed 10-15-02; 8:45 am]

BILLING CODE 7510-01-P